DEPARTMENT OF HOUSING AND URBAN DEVELOPMENT

[Docket No. FR-5311-N-03]

Notice of Availability: Notice of Funding Availability (NOFA) for American Recovery and Reinvestment Act Capital Fund Recovery Competition Grants; Correction to Deadline in June 9, 2009 Federal Register Notice

AGENCY: Office of the Assistant Secretary for Public and Indian Housing, HUD.

ACTION: Notice.

SUMMARY: On June 9, 2009, HUD published a notice in the Federal Register (74 FR 27340) to announce that a revised version of the Capital Fund Recovery Competition (CFRC) NOFA had been issued and posted to the HUD website. That brief notice stated that the deadline date for Category 4 (Creation of Energy Efficient, Green Communities) applications is July 29, 2009. In fact, the correct deadline date for Category 4 applications is July 21, 2009. The July 21, 2009 deadline date for Category 4 applications is correctly stated in the revised CFRC NOFA posted on HUD's Web site on June 3, 2009. While the requirements for submitting an application for this assistance are those provided in the CFRC NOFA, HUD is using today's Federal Register notice to avoid any confusion in its applicant community.

FOR FURTHER INFORMATION CONTACT: If you have a question or need a clarification, you may contact the Office of Capital Improvements by sending an email message to PIHOCI@hud.gov. Please see http://www.hud.gov/offices/pih/programs/ph/capfund/ocir.cfm, which can be accessed from http://www.hud.gov/recovery/, for the revised CFRC NOFA and additional information.

Dated: June 19, 2009.
Aaron Santa Anna,
Assistant General Counsel for Regulations.

[FR Doc. E9-14910 Filed 6-24-09; 8:45 am]

BILLING CODE 5210-67-P